DEPARTMENT OF COMMERCE

National Institute of Standards and Technology

National Semiconductor Technology Center Selection Committee

AGENCY: National Institute of Standards and Technology, Department of Commerce.

ACTION: Notice.

SUMMARY: On April 26, 2023, the National Institute of Standards and Technology published a notice in the Federal Register soliciting nominations for a Selection Committee that will play an important role in the success of the National Semiconductor Technology Center (“NSTC”). The notice indicated that the Selection Committee shall automatically terminate no later than August 31, 2023. NIST is issuing this notice to inform the public that the Selection Committee shall automatically terminate no later than September 30, 2023.

DATES: Nominations for the Selection Committee closed on 5:00 p.m. EST on May 24, 2023. The Selection Committee shall automatically terminate no later than September 30, 2023.

ADDRESSES: Kevin Kimball, Senior Advisor, CHIPS R&D Office, U.S. Department of Commerce, NIST, 100 Bureau Drive, MS1000, Gaithersburg, MD 20899; email: FRN@chips.gov.

FOR FURTHER INFORMATION CONTACT: Kevin Kimball, Senior Advisor, CHIPS R&D Office, U.S. Department of Commerce, NIST, 100 Bureau Drive, MS1000, Gaithersburg, MD 20899; email: FRN@chips.gov; telephone: 240-778-3977. For additional information about the National Semiconductor Technology Center, please visit https://www.nist.gov/document/vision-and-strategy-national-semiconductor-technology-center. For media inquiries, please contact Matt Hill at Matt.Hill@chips.gov.

SUPPLEMENTARY INFORMATION: On April 26, 2023, the Department issued a notice in the Federal Register seeking nominations for Selection Committee members, who by virtue of their experience and expertise, could identify distinguished, purpose-driven, visionary leaders for the new independent, non-profit entity to operate the NSTC. The original notice is available at https://www.federalregister.gov/documents/2023/04/26/2023-08591/national-semiconductor-technology-center-selection-committee.

On June 20, 2023, the Department identified five highly qualified individuals to serve on the Selection Committee. The press release describing these individuals is available at https://www.nist.gov/news-events/news/2023/06/chips-america-announces-selection-committee-board-trustees-national.

The Department understands that the Committee would benefit from additional time to complete this important task. Therefore, the Department is extending the termination date of the Selection Committee from August 31, 2023 to September 30, 2023.

Authority: 15 U.S.C. 4656, 4659.

Alicia Chambers,
NIST Executive Secretariat.

[FR Doc. 2023-17991 Filed 8-21-23; 8:45 am]

BILLING CODE 3510-13-P